ENVIRONMENTAL PROTECTION AGENCY

40 CFR Part 62

[EPA-R05-OAR-2015-0701; FRL-9936-95-Region 5]

Air Plan Approval; Michigan; Sewage Sludge Incinerators State Plan and Small Municipal Waste Combustors Negative Declaration for Designated Facilities and Pollutants

AGENCY: Environmental Protection Agency (EPA).

ACTION: Proposed rule.

SUMMARY: The Environmental Protection Agency (EPA) is proposing to approve Michigan`s State Plan to control air pollutants from Sewage Sludge Incinerators (SSI). The Michigan Department of Environmental Quality submitted the State Plan on September 21, 2015, following the required public process. The State Plan is consistent with the Emission Guidelines promulgated by EPA on March 21, 2011. This approval means that EPA finds that the State Plan meets applicable Clean Air Act requirements for subject SSI units. Once effective, this approval also makes the State Plan Federally enforceable. EPA is also announcing that we have received from Michigan a negative declaration for Small Municipal Waste Combustors (SMWC). The Michigan Department of Environmental Quality submitted on July 27, 2015 a negative declaration certifying that there are no SMWC units currently operating in the state of Michigan.

DATES: Comments must be received on or before December 16, 2015.

ADDRESSES: Submit your comments, identified by Docket ID No. EPA-R05-OAR-2015-0071, by one of the following methods:

1. www.regulations.gov: Follow the on-line instructions for submitting comments.

2. Email: nwia.jacqueline@epa.gov.

3. Fax: (312) 692-2566.

4. Mail: Jacqueline Nwia, Acting Chief, Toxics and Global Atmosphere Section, Air Toxics and Assessment Branch (AT-18J), U.S. Environmental Protection Agency, 77 West Jackson Boulevard, Chicago, Illinois 60604.

5. Hand Delivery: Jacqueline Nwia, Acting Chief, Toxics and Global Atmosphere Section, Air Toxics and Assessment Branch (AT-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Please see the direct final rule which is located in the Rules section of this Federal Register for detailed instructions on how to submit comments.

FOR FURTHER INFORMATION CONTACT: Margaret Sieffert, Environmental Engineer, Environmental Protection Agency, Region 5, 77 West Jackson Boulevard (AT-18J), Chicago, Illinois 60604, (312) 353-1151, sieffert.margaret@epa.gov.

SUPPLEMENTARY INFORMATION: In the Rules section of this Federal Register, EPA is approving through a direct final rulemaking Michigan's State Plan for control of air pollutants from SSI sources, and is amending 40 CFR part 62 to reflect the State's submittal of the negative declaration as a direct final rule without prior proposal because the Agency views this as a noncontroversial submittal and anticipates no adverse comments. A detailed rationale for the approval is set forth in the direct final rule. If no adverse comments are received in response to this rule, no further activity is contemplated. If EPA receives adverse comments, we will withdraw the direct final rule and will address all public comments in a subsequent final rule based on this proposed rule. EPA will not institute a second comment period. Any parties interested in commenting on this action should do so at this time. Please note that if EPA receives adverse comment on an amendment, paragraph, or section of this rule, and if that provision can be severed from the remainder of the rule, EPA may adopt as final those provisions of the rule that are not the subject of an adverse comment. For additional information, see the direct final rule which is located in the Rules section of this Federal Register.

Dated: October 29, 2015.
Susan Hedman,
Regional Administrator, Region 5.

[FR Doc. 2015-28910 Filed 11-13-15; 8:45 am]

BILLING CODE 6560-50-P